DEPARTMENT OF TRANSPORTATION

Surface Transportation Board

[STB Docket No. MC-F-20996]

East West Resorts Transportation LLC; East West Resorts Transportation II, LLC; Colorado Mountain Express, LLC; and Resort Express LLC—Merger—East West Resorts Transportation, LLC

AGENCY: Surface Transportation Board.

ACTION: Notice tentatively approving finance transaction.

SUMMARY: East West Resorts Transportation, LLC (EWRT I), East West Resorts Transportation II, LLC (EWRT II), both noncarriers, Colorado Mountain Express, LLC (CME) and Resort Express, LLC (RE), both motor carriers of passengers, jointly filed an application under 49 U.S.C. 14303 to merge EWRT I and EWRT II with EWRT I as the surviving entity. Additionally, incident to the merger, the parties seek the transfer of the operating rights of CME to RE followed by the lease of all the operating rights of RE by CME. Finally, the parties seek the following name changes: (1) EWRT I to East West Resort Transportation Holdings, LLC; (2) CME to East West Resort Transportation, LLC; and (3) RE to TMS, LLC. Persons wishing to oppose the application must follow the rules at 49 CFR 1182.5 and 1182.8. The Board has tentatively approved the transaction, and, if no opposing comments are timely filed, this notice will be the final Board action.

DATES: Comments must be filed by February 24, 2003. Applicant may file a reply by March 11, 2003. If no comments are filed by February 24, 2003, the tentative approval becomes final on that date.

ADDRESSES: Send an original and 10 copies of any comments referring to STB Docket No. MC-F-20996 to: Surface Transportation Board, 1925 K Street, NW., Washington, DC 20423-0001. In addition, send one copy of comments to applicants' representative: Thomas J. Burke, Jr., 1625 Broadway, Suite 1600, Denver, CO 80202.

FOR FURTHER INFORMATION CONTACT: Beryl Gordon (202) 565-1600. (Federal Information Relay Service (FIRS) for the hearing impaired: 1-800-877-8339.)

SUPPLEMENTARY INFORMATION: EWRT I and EWRT II are holding companies controlled by Charles I. Madison, Harry H. Frampton III, and John C. Goff. CME, a wholly owned subsidiary of EWRT I, is authorized to provide special and charter operations pursuant to federally issued authority in Docket Nos. MC-169174 and MC-174332. RE, a wholly owned subsidiary of EWRT II, is authorized to provide regular route interstate operations pursuant to Federally issued authority in Docket No. MC-181367.

Applicants state that ultimate control over the properties will remain the same and that the purpose of the merger and related transfer and lease is “entity simplification.” Applicants contend that approval of the transaction will enable CME, under a unified management structure, to achieve such operating efficiencies as fuel conservation and reduced vehicle congestion and exhaust emissions.

Under 49 U.S.C. 14303(b), we must approve and authorize a transaction that we find consistent with the public interest, taking into consideration at least: (1) The effect of the transaction on the adequacy of transportation to the public; (2) the total fixed charges that result; and (3) the interest of affected carrier employees.

Applicants have submitted the information required by 49 CFR 1182.2, including information to demonstrate that the proposed transaction is consistent with the public interest under 49 U.S.C. 14303(b). Specifically, applicants have shown that the proposed transaction will have a positive effect on the adequacy of transportation to the public and will result in no increase in fixed charges and no changes in employment. See 49 CFR 1182.2(a)(7). Additional information may be obtained from applicants' representative.

On the basis of the application, we find that the proposed transaction is consistent with the public interest and should be authorized. If any opposing comments are timely filed, this finding will be deemed vacated and, unless a final decision can be made on the record as developed, a procedural schedule will be adopted to reconsider the application. See 49 CFR 1182.6(c). If no opposing comments are filed by the expiration of the comment period, this decision will take effect automatically and will be the final Board action.

Board decisions and notices are available on our Web site at: www.stb.dot.gov.

This decision will not significantly affect the quality of the human environment or the conservation of energy resources.

It is ordered:

1. The proposed transaction is approved and authorized, subject to the filing of opposing comments.

2. If timely opposing comments are filed, the findings made in this decision will be deemed as having been vacated.

3. This decision will be effective on February 24, 2003, unless timely opposing comments are filed.

4. A copy of this notice will be served on: (1) U.S. Department of Transportation, Federal Motor Carrier Safety Administration, 400 7th Street, SW., Room 8214, Washington, DC 20590; (2) U.S. Department of Justice, Antitrust Division, 10th Street & Pennsylvania Avenue, NW., Washington, DC 20530; and (3) U.S. Department of Transportation, Office of the General Counsel, 400 7th Street, SW., Washington, DC 20590.

Decided: January 3, 2003.
By the Board, Chairman Nober, Vice Chairman Burkes, and Commissioner Morgan.
Vernon A. Williams,
Secretary.

[FR Doc. 03-398 Filed 1-9-03; 8:45 am]

BILLING CODE 4915-00-P